DEPARTMENT OF TRANSPORTATION

Surface Transportation Board

[Docket No. FD 35909]

Signal Specialties, Inc.—Acquisition and Operation Exemption—Line in Buchanan County, MO

Signal Specialties, Inc. (SSI), a noncarrier, has filed a verified notice of exemption ¹ under 49 CFR 1150.31, to acquire from Transit America, LLC (TA, LLC) ² and to operate approximately 1,650 feet of rail line in Buchanan County, Mo., (the Line). The Line extends along the Easton-Saxton Road and connects to a BNSF Railway Company (BNSF) mainline on the west end and to track owned by Herzog Contracting Corporation (HCC) on the east end. According to SSI, there are no milepost designations on the Line.

¹ SSI originally filed the notice of exemption on February 23, 2015, and filed a supplement on March 10, 2015. Therefore, March 10, 2015, is considered the filing date and the basis for all dates in this notice.

² SSI is a noncarrier and has invoked 49 CFR 1150.31 to acquire rights by contract, which it refers to as “trackage rights.”

The Line was part of a longer line extending between St. Joseph, Mo., and Laclede, Mo. This longer line was abandoned by a predecessor to BNSF in 1984.³ Sometime after 1984, but prior to October 2002, Herzog Contracting Corporation (HCC), an affiliate of TA, LLC, acquired a portion of the abandoned line. TA, LLC subsequently acquired the right, title, and interest to a portion of that abandoned line east of St. Joseph from HCC and commenced operations over it.⁴ SSI now seeks to enter into an agreement with TA, LLC to operate on the Line.

³ See Burlington N. R.R.—Aban. between Laclede & St. Joseph, in Linn, Buchanan, Clinton, DeKalb, Caldwell, & Livingston Cntys., Mo., AB 6 (Sub-No. 213X) (ICC served Oct. 26, 1984).

⁴ See TransitAmerica, LLC—Operation Exemption—Line in Buchanan Cnty, Mo., FD 34253 (STB served Oct. 17, 2002).

SSI certifies that its projected annual revenues as a result of this transaction will not exceed those that would qualify it as a Class III rail carrier and will not exceed $5 million.

SSI further certifies that the trackage rights agreement does not include a provision or agreement that may limit future interchange with a third-party connecting carrier.

The transaction may be consummated on or after April 9, 2015 (30 days after the supplemental notice of exemption was filed).

If the verified notice contains false or misleading information, the exemption is void ab initio. Petitions to revoke the exemption under 49 U.S.C. 10502(d) may be filed at any time. The filing of a petition to revoke will not automatically stay the effectiveness of the exemption. Petitions to stay must be filed no later than April 2, 2015 (at least seven days before the exemption becomes effective).

An original and 10 copies of all pleadings, referring to Docket No. FD 35909, must be filed with the Surface Transportation Board, 395 E Street SW., Washington, DC 20423-0001. In addition, a copy of each pleading must be served on Kevin M. Sheys, Nossaman LLP, 1666 K St. NW., Suite 500, Washington, DC 20006.

Board decisions and notices are available on our Web site at “WWW.STB.DOT.GOV”.

Decided: March 23, 2015.
By the Board, Rachel D. Campbell, Director, Office of Proceedings.
Jeffrey Herzig,
Clearance Clerk.

[FR Doc. 2015-06952 Filed 3-25-15; 8:45 am]

BILLING CODE 4915-01-P